DEPARTMENT OF ENERGY

Federal Energy Regulatory Commission

[Docket No. CP16-27-000]

Paulsboro Natural Gas Pipeline Company, LLC; Notice of Schedule for Environmental Review of the Delaware River Pipeline Relocation Project

On December 1, 2015, Paulsboro Natural Gas Pipeline Company, LLC (Paulsboro) filed an application in Docket No. CP16-27-000 requesting authorization and a Certificate of Public Convenience and Necessity pursuant to Section 7(b) and 7(c) of the Natural Gas Act (NGA) to abandon, construct, and operate certain natural gas pipeline facilities. The proposed project is known as the Delaware River Pipeline Relocation Project (Project).

On December 11, 2015, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—July 18, 2016

90-day Federal Authorization Decision Deadline—October 16, 2016

If a schedule change becomes necessary, additional notice will be provided so that the relevant agencies are kept informed of the Project's progress.

Project Description

Paulsboro proposes to abandon about 2.4 miles of 6- and 8-inch-diameter natural gas pipeline extending across the Delaware River between Delaware County, Pennsylvania and Gloucester County, New Jersey. Paulsboro would replace the abandoned pipeline with 2.6 miles of 12- and 24-inch-diameter pipeline installed under the Delaware River using the horizontal directional drill method. The purpose of the Project is to facilitate the United States Army Corps of Engineers' dredging activities for the Delaware River Main Channel Deepening Project (45-Foot Project). The Project would increase natural gas transportation capacity from 38 million standard cubic feet per day (MMScf/d) to 57.7 MMScf/d to the sole customer served by the pipeline, Paulsboro Refining Company, LLC.

Background

On January 19, 2016, the Commission issued a Notice of Intent to Prepare an Environmental Assessment for the Proposed Delaware River Pipeline Relocation Project and Request for Comments on Environmental Issues (NOI). The NOI was published in the Federal Register and mailed to affected landowners; federal, state, and local government agencies; elected officials; environmental and public interest groups; Native American tribes; other interested parties; and local libraries and newspapers.

In response to the NOI, the Commission received comments from Consolidated Rail Corporation, Delaware Riverkeeper Network, New Jersey Department of Environmental Protection, New Jersey State Historic Preservation Office, and Pennsylvania State Historic Preservation Office. The primary issues raised by the commentors included state permit requirements and environmental compliance; potential impacts on cultural and natural resources; cumulative impacts; pipeline safety; future upgrades of Paulsboro's facilities and systems; and natural gas production methods.

The Federal Aviation Administration, U.S. Coast Guard, and U.S. Army Corps of Engineers, Philadelphia District are cooperating agencies in the preparation of the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-27), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: May 11, 2016.
Kimberly D. Bose,
Secretary.

[FR Doc. 2016-11899 Filed 5-19-16; 8:45 am]

BILLING CODE 6717-01-P